FEDERAL COMMUNICATIONS COMMISSION

47 CFR Part 2

[GN Docket No. 23-65, IB Docket No. 22-271; FCC 24-28; FR ID 226526]

Single Network Future: Supplemental Coverage From Space; Space Innovation; Correction

AGENCY: Federal Communications Commission.

ACTION: Final rule; correcting amendments.

SUMMARY: The Federal Communications Commission (Commission) is correcting a final rule that appeared in the Federal Register on April 30, 2024.

DATES: This correction is effective June 25, 2024.

FOR FURTHER INFORMATION CONTACT: Jon Markman, Mobility Division, Wireless Telecommunications Bureau, Jonathan.Markman@fcc.gov or (202) 418-7090, or Merissa Velez, Space Bureau Satellite Programs and Policy Division, Merissa.Velez@fcc.gov or (202) 418-0751.

SUPPLEMENTARY INFORMATION: The FCC is correcting the Table of Allocations in 47 CFR 2.106. A rule the FCC published April 30, 2024, at 89 FR 34148 contained errors in the table formatting.

List of Subjects in 47 CFR Part 2

Communications, Satellites, Telecommunications.

Accordingly, 47 CFR part 2 is corrected by making the following correcting amendments:

PART 2—FREQUENCY ALLOCATIONS AND RADIO TREATY MATTERS; GENERAL RULES AND REGULATIONS

1. The authority citation for part 2 continues to read as follows:

Authority: 47 U.S.C. 154, 302a, 303, and 336, unless otherwise noted.

2. In § 2.106(a), revise pages 30, 36, 37, and 38 of the table to read as follows:

§ 2.106 Table of Frequency Allocations.

(a) * * *

BILLING CODE 6712-01-P

* * * * *

Federal Communications Commission.
Marlene Dortch,
Secretary.

[FR Doc. 2024-13641 Filed 6-24-24; 8:45 am]

BILLING CODE 6712-01-C